NUCLEAR REGULATORY COMMISSION

[Docket Nos. 50-321 and 50-366; NRC-2025-0091]

Southern Nuclear Operating Company, Inc.; Edwin I. Hatch Nuclear Plant, Unit Nos. 1 and 2; Subsequent License Renewal Application

AGENCY: Nuclear Regulatory Commission.

ACTION: Notice; receipt.

SUMMARY: The U.S. Nuclear Regulatory Commission (NRC) has received an application for the subsequent renewal of Renewed Facility Operating License Nos. DPR-57 and NPF-5, which authorize Southern Nuclear Operating Company, Inc. (Southern, the applicant) to operate Edwin I. Hatch Nuclear Plant (Hatch), Unit Nos. 1 and 2. The subsequent renewed licenses would authorize the applicant to operate Hatch for an additional 20 years beyond the period specified in each of the current licenses. The current operating licenses for Hatch expire as follows: Unit No. 1 on August 6, 2034, and Unit No. 2 on June 13, 2038.

DATES: The subsequent license renewal application referenced in this document is available on June 2, 2025.

ADDRESSES: Please refer to Docket ID NRC-2025-0091 when contacting the NRC about the availability of information regarding this document. You may obtain publicly available information related to this document using any of the following methods:

• Federal Rulemaking Website: Go to https://www.regulations.gov and search for Docket ID NRC-2025-0091. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• Public Library: A copy of the subsequent license renewal application for Hatch can be accessed at the following public library: Appling County Public Library, 242 E Parker St., Baxley, GA 31513.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Brian Harris, Office of Nuclear Reactor Regulation, U.S. Nuclear Regulatory Commission, Washington, DC 20555-0001; telephone: 301-415-2277; email: Brian.Harris2@nrc.gov.

SUPPLEMENTARY INFORMATION: The NRC has received an application from Southern, dated May 15, 2025 (ADAMS Package Accession No. ML25135A390), filed pursuant to section 103 of the Atomic Energy Act of 1954, as amended, and part 54 of title 10 of the Code of Federal Regulations, “Requirements for Renewal of Operating Licenses for Nuclear Power Plants,” to subsequently renew the renewed facility operating licenses for Hatch Unit Nos. 1 and 2. Subsequent renewal of the licenses would authorize the applicant to operate the facility for an additional 20-year period beyond the period specified in the current operating licenses. Hatch Unit Nos. 1 and 2 are boiling-water reactors located in Appling County, Georgia, near Baxley. The acceptability of the tendered application for docketing, and other matters, including an opportunity to request a hearing, will be the subject of subsequent Federal Register notices.

Dated: May 28, 2025.
For the Nuclear Regulatory Commission.
Alissa Neuhausen,
Acting Chief, License Renewal Project Branch, Division of New and Renewed Licenses, Office of Nuclear Reactor Regulation.

[FR Doc. 2025-09879 Filed 5-30-25; 8:45 am]

BILLING CODE 7590-01-P